DEPARTMENT OF HOUSING AND URBAN DEVELOPMENT

[Docket No. FR-5997-N-18]

30-Day Notice of Proposed Information Collection: Evaluation of the Rental Assistance Demonstration Program, Phase 2

AGENCY: Office of the Chief Information Officer, HUD.

ACTION: Notice.

SUMMARY: HUD submitted the proposed information collection requirement described below to the Office of Management and Budget (OMB) for review, in accordance with the Paperwork Reduction Act. The purpose of this notice is to allow for an additional 30 days of public comment.

DATES: Comments Due Date: June 21, 2017.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Anna P. Guido, Reports Management Officer, QDAM, Department of Housing and Urban Development, 451 7th Street, SW., Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

The Federal Register notice that solicited public comment on the information collection for a period of 60 days was published on September 8, 2016 at 81 FR 62167.

A. Overview of Information Collection

Title of Information Collection: Evaluation of the Rental Assistance Demonstration, Phase 2.

OMB Approval Number: Pending.

Type of Request: 2528-New.

Form Number: No forms.

Description of the need for the information and proposed use: The Rental Assistance Demonstration program (RAD) was established in 2012 to stem the loss of Public Housing units and other subsidized housing arising from a backlog of capital needs. The program helps to convert at-risk Public Housing properties to two different forms of Project-Based Section 8 Housing Assistance Payments (HAP) contracts—either Project-Based Voucher (PBV) or Project-Based Rental Assistance (PBRA)—giving Public Housing Authorities (PHAs) more flexibility to access private and public funding sources, reducing their reliance on limited appropriations. The RAD authorizing statute requires HUD to assess the impact of the program on: (1) The preservation and improvement of former Public Housing units, in particular their physical and financial condition, (2) the amount of external capital leveraged as a result of such conversions, and (3) the residents living in properties at the time of conversion.

To comply with this statutory requirement and examine whether the program's objectives are being achieved, HUD will be collecting and analyzing quantitative and qualitative data from primary and secondary sources related to the following: (1) The physical and financial condition of 24 RAD properties selected for the study and 48 non-RAD properties selected for comparison; (2) the implementation of the program, including the capital needs and amount of external funding leveraged; and (3) the experience with, and effect on, residents.

The first phase of the evaluation has been completed, and relied on information collected in accordance with OMB control number 2528-0304. Under Phase 1, HUD surveyed PHAs about their experiences with RAD and began enrolling Public Housing residents to track them for Phase 2 of the study. The information collection effort occurred early in the RAD implementation process; while it provided useful information about how PHAs were approaching RAD, further information collection is necessary to understand the results of RAD.

The second phase of the evaluation is now under way to answer questions about effects of RAD three to four years after its launch. This notice announces HUD's intent to collect additional information: (1) A survey of residents of RAD properties and (2) follow-up interviews with PHA staff. This information will inform HUD, Congress, and other interested parties about how PHAs and residents are experiencing RAD now that projects have been converted, and whether or not it is achieving its intended objectives.

Respondents (i.e. affected public): This information collection will affect approximately 400 households that have been enrolled in the RAD tenant study (enrollment was approved under OMB control number 2528-0304) and approximately 100 PHA staff, including Executive Directors and other high-level staff at PHAs participating in RAD. The tenant survey is expected to take 1 hour and will be conducted once for each household. The PHA interviews are expected to take 1 hour and will be conducted one time.

Information collection | Number of respondents | Frequency of response | Responses per annum | Burden hour per response | Annual burden hours | Hourly cost per response | Annual cost
Survey of RAD tenants | 400 | One time | 1 | 0.50 | 400 | $12.73 | $2,546.00
Interviews with PHA staff | 24 | One time | 1 | 1.50 | 36 | $54.24 | 1,952.64
Total | 424 |  |  |  | 500 |  | $4,498.64

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including using appropriate automated collection techniques or other forms of information technology, e.g., permitting electronic submission of responses.

HUD encourages interested parties to submit comment in response to these questions.

Authority: Section 3507 of the Paperwork Reduction Act of 1995, 44 U.S.C. Chapter 35.

Dated: May 15, 2017.
Anna P. Guido,
Department Reports Management Officer, Office of the Chief Information Officer.

[FR Doc. 2017-10362 Filed 5-19-17; 8:45 am]

BILLING CODE 4210-67-P